DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Council Cooperative Reports.

OMB Control Number: 0648-0678.

Form Number(s): None.

Type of Request: Regular (revision and extension of a currently approved information collection).

Number of Respondents: 26.

Average Hours per Response: Crab Rationalization Cooperative Annual Report, 30 hours; Rockfish Cooperative Annual Report, 45 hours; Amendment 80 Annual Cooperative Report, Amendment 80 Halibut Bycatch Avoidance Progress Report, American Fisheries Act (AFA) Catcher Vessel Intercooperative Agreement and AFA Annual Catcher Vessel Intercooperative Report, 40 hours each; Amendment 80 Halibut Prohibited Species Catch Management Plan; 12 hours.

Burden Hours: 1,129.

Needs and Uses: This request is for revision and extension of an existing information collection.

The Magnuson-Stevens Fishery Conservation and Management Act, 16 U.S.C. 1801 et seq. (Magnuson-Stevens Act) authorizes the North Pacific Fishery Management Council (Council) to prepare and amend fishery management plans for any fishery in waters under its jurisdiction. NOAA's National Marine Fisheries Service (NMFS) manages the U.S. groundfish fisheries of the exclusive economic zone off Alaska under the Fishery Management Plan for Groundfish of the Gulf of Alaska and the Fishery Management Plan for Groundfish of the Bering Sea and Aleutian Islands (BSAI) Management Area. The fishery management plans (FMPs) were approved by the Secretary of Commerce under authority of the Magnuson-Stevens Act as amended in 2006. The groundfish FMPs are implemented by regulations at 50 CFR part 679. The Crab FMP is implemented by regulations at 50 CFR part 680.

In the last decade or more, the Council has developed several cooperative programs as options in larger catch share programs. As part of those cooperative programs, the Council required that cooperatives submit an annual written report detailing various activities of the cooperative. These reports are intended to be a resource for the Council to track the effectiveness of the cooperative and their ability to meet the Council's goals. Additionally, they are a tool for the cooperatives to provide feedback on the programs. Regulation provides a framework for the minimum required information for most of the reports, while the Council has the flexibility to augment this framework with additional information requests that may be pertinent to current issues in the fishery.

This request combines voluntary, non-regulatory cooperative report elements from four collections (OMB Control Nos. 0648-0401, -0565, -0678, and -0697) with the Annual Rockfish Cooperative Report from OMB Control Number 0648-0545 which contains both required (per 50 CFR 679.5(r)) and voluntary data elements. The title of this collection is changed from “Crab Rationalization (CR) Program: CR Cooperative Annual Report” to read: “Alaska Council Cooperative Annual Reports.” In addition to presentation of the report before the Council, all of the annual reports must be submitted to the Council by email or fax for the April Council meeting.

Affected Public: Business or other for-profit organizations.

Frequency: Annually.

Respondent's Obligation: Voluntary and required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 8, 2016.
Sarah Brabson,
NOAA PRA Clearance Officer.

[FR Doc. 2016-19083 Filed 8-10-16; 8:45 am]

BILLING CODE 3510-22-P